DEPARTMENT OF THE INTERIOR

Bureau of Land Management

[ES-960-1910-BJ, ES-053598, Group 22, Maine]

Survey Plat Filing; Maine

AGENCY: Bureau of Land Management, DOI.

ACTION: Notice of filing of plat of survey; Maine.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the Bureau of Indian Affairs.

The lands we surveyed are:

Township 1, Range 6, East of the West Line of the State.

The plat of the dependent resurvey and survey of the boundaries of the land held in trust by the United States, for the Penobscot Indian Nation, in Township 1, Range 6, West of the East Line of the State, (T. 1, R. 6, W.E.L.S.), Penobscot County, Maine, was accepted August 18, 2005. We will place a copy of the plat we described in the open files. It will be available to the public as a matter of information.

If BLM receives a protest against this survey, as shown on the plat, prior to the date of official filing, we will stay the filing pending our consideration of the protest.

We will not officially file the plat until the day after we have accepted or dismissed all protests and they have become final, including decisions on appeals.

Dated: August 18, 2005.
Stephen D. Douglas,
Chief Cadastral Surveyor.

[FR Doc. 05-16815 Filed 8-23-05; 8:45 am]

BILLING CODE 4310-GJ-P